DEPARTMENT OF THE INTERIOR

Fish and Wildlife Service

[FWS-R4-ES-2016-N223]; [FXES11140400000-178-FF04E00000]

Endangered and Threatened Wildlife and Plants; Incidental Take Permit Application and Environmental Assessment for Commercial Mixed-Use Development; Miami-Dade County, FL

AGENCY: Fish and Wildlife Service, Interior.

ACTION: Notice of availability; request for comments.

SUMMARY: Under the Endangered Species Act of 1973, as amended (Act), we, the U.S. Fish and Wildlife Service, announce the receipt and availability of a proposed habitat conservation plan and accompanying documents related to an application from four applicants for a permit associated with construction of the Coral Reef Commons mixed-use development (project) in Miami-Dade County, Florida. If issued, the permit would authorize take of three federally listed species, one Federal candidate, and two State-listed species, incidental to project development, occupation, and use. We invite the public to comment on these documents.

DATES: To ensure consideration, please send your written comments by May 22, 2017.

ADDRESSES: Obtaining Documents: Documents are available for public inspection by appointment during regular business hours at either of the following locations:

• Atlanta Regional Office, Ecological Services, U.S. Fish and Wildlife Service, 1875 Century Boulevard, Atlanta, GA 30345.

• South Florida Ecological Services Office, U.S. Fish and Wildlife Service, 1339 20th Street, Vero Beach, FL 32960.

Submitting Comments: Submit comments by one of the following methods. Please reference TE15009C-0 in all comments. For additional guidance, please see Public Comments under SUPPLEMENTARY INFORMATION.

U.S. mail: You may mail comments to the Fish and Wildlife Service's Atlanta Regional Office.

Hand-delivery: You may hand-deliver comments to the Atlanta or the Vero Beach Office.

Email: You may email comments to david_dell@fws.gov. Please include your name and return address in your email message. If you do not receive a confirmation from us that we have received your email message, contact us directly at either telephone number in FOR FURTHER INFORMATION CONTACT.

FOR FURTHER INFORMATION CONTACT: Mr. David Dell, Regional HCP Coordinator, Atlanta (see ADDRESSES), telephone: 404-679-7313; or Ashleigh Blackford, Supervisory Wildlife Biologist, at the South Florida Ecological Services Office (see ADDRESSES), telephone: 772-469-4246. If you use a telecommunications device for the deaf (TDD), please call the Federal Relay Service at 800-877-8339.

SUPPLEMENTARY INFORMATION: Under the Endangered Species Act of 1973, as amended (Act), we, the U.S. Fish and Wildlife Service, announce the receipt and availability of a proposed habitat conservation plan (HCP), accompanying incidental take permit (ITP) application, and environmental assessment (EA) related to an application from Coral Reef Retail LLC, Coral Reef Residential Phase I LLC, Ramdev LLC, and the University of Miami (applicants) for a permit associated with construction of the Coral Reef Commons mixed-use development (project) in Miami-Dade County, Florida. We invite the public to comment on these documents.

The applicants' proposed HCP describes the mitigation and minimization measures proposed to address the impacts to the covered species. Per the National Environmental Policy Act (42 U.S.C. 4321 et seq.; NEPA), the EA analyzes the take of the covered species and the environment. The applicants request a 30-year ITP under section 10(a)(1)(B) of the Act, as amended (16 U.S.C. 1531 et seq.).

Covered Species

The covered species are the following:

Federally listed as endangered: Bartram's scrub-hairstreak butterfly (Strymon acis bartrami), Florida leafwing butterfly (Anaea troglodyta floridalis), Florida bonneted bat (Eumops floridanus), and Miami tiger beetle (Cicindela scabrosa floridana).

Federally listed as threatened: Eastern indigo snake (Drymarchon corais cooperi).

Federal candidate: Gopher tortoise (Gopherus polyphemus).

State-listed: Rim rock crowned snake (Tantilla oolitica) and white-crowned pigeon (Patagioenas leucocephala).

Because the project would likely have adverse effects on several plant species, the HCP includes conservation measures for the following plant species:

Federally listed as endangered: Tiny polygala (Polygala smallii), deltoid spurge (Chamaesyce deltoidea), crenulate lead-plant (Amorpha crenulata), Florida brickell bush (Brickelia mosieri), Small's milkpea (Galactia smallii), and Carter's small-flowered flax (Linum carteri var. carteri).

Federally listed as threatened: Garber's spurge (Chamaesyce garberi).

Federal candidates: Sand flax (Linum arenicola), Blodgett's silver bush (Argythamnia blodgettii), Florida prairie clover (Dalea carthagenensis var. floridana), Florida pineland crabgrass (Digitaria pauciflora), Everglades bully (Sideroxylon reclinatum ssp. austrofloridense), and Florida bristle fern (Trichomanes punctatum ssp. floridanum).

State-listed: Clamshell orchid (Encyclia cochleata var. triandra).

Environmental Assessment

The EA assesses the likely environmental impacts associated with the project, including the environmental consequences of the no-action and the proposed action alternatives. The proposed action alternative is issuance of the ITP and implementation of the HCP as submitted by the applicants. The HCP area is comprised of a 137.9-acre tract, of which 86.49 acres are proposed for development, in addition to a separate 50.96-acre tract proposed for off-site mitigation. These tracts lie in an area known as the Richmond Pine Rocklands. Construction of the project would impact 86.49 acres of pine rockland habitat and would take covered species that occupy the area.

Habitat Conservation Plan

The minimization and mitigation measures proposed in the HCP include the setting aside and maintenance of 51.41 acres of conservation areas within the 137.9-acre tract, supplemented by 3.88 acres of intermediate conservation “stepping stones” to provide for movement of covered species among the conservation areas. In addition to the conservation areas, the 50.96-acre tract would serve as off-site mitigation and be protected and maintained as habitat for the covered species. The conservation and off-site mitigation areas would be managed by prescribed fire, other vegetation control measures, and removal of exotic invasive species. The areas also would be protected, as appropriate, by association covenants, deed restrictions, and/or conservation easements.

Public Comments

We specifically request information, views, and opinions from the public on our proposed Federal action, including identification of any other aspects of or impacts to the human environment not already identified in the EA prepared pursuant to the NEPA regulations at 40 CFR 1506.6. Further, we specifically solicit information regarding the adequacy of the HCP per 50 CFR parts 13 and 17.

Before including your address, phone number, email address, or other personal identifying information in your comment, you should be aware that your entire comment—including your personal identifying information—may be made publicly available at any time. While you can ask us in your comment to withhold your personal identifying information from public review, we cannot guarantee that we will be able to do so.

Covered Area

The covered species historically occurred in the Richmond pine rockland habitats. Portions of the HCP covered area consist of pine rockland habitat that is either currently occupied by the covered species or suitable for restoration as habitat for the species.

Next Steps

We will evaluate the ITP application, including the HCP, and any comments we receive to determine whether the application meets the requirements of section 10(a)(1)(B) of the Act. We will also evaluate whether a section 10(a)(1)(B) ITP should be issued, as well as conduct an intra-Service consultation pursuant to section 7 of the Act. We will use the results of this consultation and the above findings in our final analysis to determine whether to issue the ITP. If we determine that the requirements are met, we will issue the ITP for incidental take of the covered species.

Authority

We provide this notice under section 10 of the Act (16 U.S.C. 1531 et seq.) and NEPA regulations (40 CFR 1506.6).

Dated: March 3, 2017.
Mike Oetker,
Acting Regional Director.

[FR Doc. 2017-05767 Filed 3-22-17; 8:45 am]

BILLING CODE 4333-15-P